DEPARTMENT OF THE INTERIOR

Fish and Wildlife Service

[FWS-HQ-IA-2013-N040; FXIA16710900000P5-123-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Permit No. | Applicant | Receipt of application Federal Register notice | Permit issuance date
Endangered Species
83741A | Timothy Jackson | 77 FR 58405; September 20, 2012 | December 5, 2012.
83806A | Paul Maddison | 77 FR 59961; October 1, 2012 | December 12, 2012.
86415A | Gene Day | 77 FR 61627; October 10, 2012 | December 12, 2012.
88316A | David Moore | 77 FR 66476; November 5, 2012 | January 14, 2013.
84872A | Palm Beach Zoo at Dreher Park | 77FR 66476; November 5, 2012 | January 11, 2013.
022729 | NOAA Fisheries/Pacific Islands Regional Office | 77 FR 68809; November 16, 2012 | January 3, 2013.
89103A | Dallas Zoo | 77FR 68809; November 16, 2012 | February 12, 2013.
89908A | Joseph Borgesen | 77 FR 70457; November 26, 2012 | January 14, 2013.
89909A | Charles Kleiser | 77 FR 70460; November 26, 2012 | January 7, 2013.
91698A | Lonnie Henriksen | 77 FR 74506; December 14, 2012 | January 25, 2013.
91992A | David Combs | 77 FR 74506; December 14, 2012 | January 25, 2013.
89757A | Indiana University-Purdue University Fort Wayne | 77 FR 74506; December 14, 2012 | February 5, 2013.
92768A | Steven Hanlon | 78 FR 112; January 2, 2013 | February 5, 2013.
91292A | Walter A. Wade | 77 FR 74506; December 14, 2012 | February 13, 2013.
91988A | Leslie I. Barnhart | 77 FR 74506; December 14, 2012 | February 13, 2013.
93273A | David Gainer | 78 FR 4162; January 18, 2013 | February 13, 2013.
Marine Mammals
81899A | Shannon Atkinson, University of Alaska | 77 FR 58405; September 20, 2012 | February 11, 2013.
83724A | SeaWorld Parks & Entertainment, Inc | 77 FR 61627; October 10, 2012 | February 15, 2013.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2013-04240 Filed 2-22-13; 8:45 am]

BILLING CODE 4310-55-P